DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the following information collections: (1) Application for Authority to Employ Full-Time Students at Subminimum Wages in Retail or Service Establishments or Agriculture (WH-200 and WH-202); (2) Rehabilitation Plan and Award (OWCP-16); and (3) Notice of Recurrence of Disability and Claim for Continuance of Pay/Compensation (CA-2A).

DATES: Written comments must be submitted to the office listed in the addresses section below within April 22, 2002.

ADDRESSES: Ms. Patricia A. Forkel, U. S. Department of Labor, 200 Constitution Ave., N.W., Room S-3201, Washington, DC 20210, telephone (202) 693-0339 (this is not a toll-free number), fax (202) 693-1451, e-mail pforkel@fenix2.dol-esa.gov.

SUPPLEMENTARY INFORMATION:

Applications for Authority To Employ Full-Time Students at Subminimum Wages in Retail or Service Establishments or Agriculture

I. Background

The Fair Labor Standards Act Sections 14(b)(1) and 14(b)(2) require the Secretary of Labor to provide certificates authorizing the employment of full-time students at 85% of the applicable minimum wage in retail or service establishments and in agriculture, to the extent necessary in order to prevent curtailment of opportunities for employment. Sections 519.3, 519.4, and 519.6 of Regulations 29 CFR part 519, set forth the application requirements and terms and conditions for employment of full-time students at subminimum wages. The WH-200 and WH-202 are voluntary use forms which are prepared and signed by an authorized representative of the employer to employ full-time students at subminimum wages.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for this information collection in order to grant employer requests to employ students at subminimum wages. The WH-200 is currently approved for use through July 31, 2002. This form has been revised for this information collection request, and it to be used by employers requesting to employ more than six full-time students at subminimum wages. The WH-202 is a new form which provides a simplified application for employers applying for authorization to employ up to six full-time students at subminimum wages throughout the employer's enterprise on any given day. This application requests less information than currently required on the WH-200.

Type of Review: Revision.

Agency: Employment Standards Administration.

Titles:Application for Authority to Employ Full-Time Students at Subminimum Wages in Retail or Service Establishments or Agriculture Under Regulations 29 CFR part 519 (WH-200); Application for Authority to Employ Six or More Full-Time Students at Subminimum Wages in Retail or Service Establishments or Agriculture Under Regulations 29 CFR part 519 (WH-202).

OMB Number: 1215-0032.

Agency Number: WH-200; WH-202.

Affected Public: Individuals or households; Businesses or other for-profit; Not for-profit institutions; Farms.

Frequency: Annually.

Total Respondents/Responses: 350.

Time per Response: 10-30 minutes.

Estimated Total Burden Hours: 69.

Total Burden Cost (capital/startup): $129.50.

Total Burden Cost (operating/maintenance): $0.

Rehabilitation Plan and Award (OWCP-16).

I. Background

The Office of Workers' Compensation Programs (OWCP) administers the Longshore and Harbor Workers' Compensation Act (LHWCA) and the Federal Employees' Compensation Act (FECA). Section 8104(a) of the FECA and Section 39 (c)(2) of the LHWCA provide that eligible injured workers are to be furnished vocational rehabilitation services. The form OWCP-16 serves as a plan for rehabilitation services, submitted by the injured worker and the vocational rehabilitation counselor, and OWCP's award of payment. The signatures of the interested parties document their collective approval of the plan. The form summarizes the nature and costs of the vocational rehabilitation program for a prompt decision on funding by OWCP.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

I. Current Actions

The Department of Labor seeks the extension of approval of this information collection request in order to carry out its responsibility to provide vocational rehabilitation services to eligible workers currently unemployed because of disability.

Type of Review: Extension.

Agency: Employment Standards Administration.

Title: Rehabilitation Plan and Award.

OMB Number: 1215-0067.

Agency Number: OWCP-16.

Affected Public: Individuals or households; Business or other for-profit.

Frequency: On occasion.

Total Respondents/Responses: 7,000.

Average Time per Response: 30 minutes.

Total Annual Burden Hours: 3,500.

Total Burden Cost (capital/startup): 0.

Total Burden Cost (operation/maintenance): 0.

Notice of Recurrence of Disability and Claim for Continuance of Pay/Compensation (CA-2A)

I. Background

The Office of Federal Workers' Compensation Programs administers the Federal Employees' Compensation Act (5 USC 8101, et. seq.), which provides for the continuation of pay or compensation for work-related injury or disease resulting from Federal employment. Information on the CA-2A is obtained from claimants with previously accepted injuries who claim a recurrence of disability, and from their supervisors.

II. Review Focus

The Department of Labor is particularly interested in comments which

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension for approval of this information collection in order to determine if a claimant has suffered a recurrence of a disability related to an accepted injury, and if, so, appropriate benefits payable.

Type of Review: Extension.

Agency: Employment Standards Administration.

Title: Notice of Recurrence of Disability and Claim for Continuance of Pay/Compensation.

OMB Number: 1215-0167.

Agency Number: CA-2A.

Affected Public: Individuals or households.

Frequency: Once per recurrence.

Total Respondents/Responses: 550.

Time per Response: 30 minutes.

Estimated Total Burden Hours: 275.

Total Burden Cost (capital/startup): $0.

Total Burden Cost (operating/maintenance): $203.00.

Comments submitted in response to this notice will be summarized and/or included in the request for Office of Management and Budget approval of the information collection request; they will also become a matter of public record.

Dated: February 12, 2002.
Margaret J. Sherrill,
Chief, Branch of Management, Review, and Internal Control, Chief, Division of Financial Management, Office of Management, Administration and Planning, Employment Standards Administration.

[FR Doc. 02-3926 Filed 2-15-02; 8:45 am]

BILLING CODE 4510-27-P